DEPARTMENT OF HEALTH AND HUMAN SERVICES

Administration for Children and Families

Submission for OMB Review; Comment Request

Title: The Early Head Start Family and Child Experiences Survey 2018 (Baby FACES 2018).

OMB No.: 0970-0354.

Description: The Administration for Children and Families (ACF) at the U.S. Department of Health and Human Services (HHS) seeks approval to collect descriptive information for the Early Head Start Family and Child Experiences Survey 2018 (Baby FACES 2018). This information collection is to provide nationally representative data on Early Head Start (EHS) programs, centers, classrooms, staff, and families to guide program planning, technical assistance, and research.

The proposed data collection builds upon a prior study (Baby FACES 2009; OMB 0970-0354) that longitudinally followed two cohorts of children through their experience in the program. While that study provided a great deal of information about program participation over time and about services received by children and families, it did not allow for national level estimates of service quality, nor inferences about children who enter the program after 15 months of age. To fill these knowledge gaps and to answer additional questions about how programs function, the proposed Baby FACES 2018 design will include a cross-section of a nationally representative sample of programs, centers, home visitors, teachers, classrooms, children and families. This will allow nationally representative estimates at all levels at a point in time and will include the entire age span of enrolled children.

The goal of this work is to obtain updated information on EHS programs and understand better how program processes support relationships (e.g., between home visitors and parents, between parents and children, and between teachers and children) which are hypothesized to lead to improved child and family outcomes.

Respondents: Early Head Start program directors, child care center directors, teachers and home visitors, and parents of enrolled children.

Annual Burden Estimates
[2 Year Clearance]
Instrument | Total number of respondents | Annual number of respondents | Number of responses per respondent | Average burden hours per response | Annual burden hours
Classroom/home visitor sampling form from EHS staff | 587 | 294 | 1 | .17 | 50
Child roster form from EHS staff | 587 | 294 | 1 | .33 | 97
Parent consent form | 2,887 | 1,444 | 1 | .17 | 245
Parent survey | 2,310 | 1,155 | 1 | .5 | 578
Parent Child Report (PCR) | 2,310 | 1,155 | 1 | .25 | 289
Staff survey (Teacher survey and Home Visitor survey) | 1,397 | 699 | 1 | .5 | 349
Staff Child Report (SCR) | 1,097 | 549 | 2.5 | .25 | 343
Program director survey | 140 | 70 | 1 | .5 | 35
Center director survey | 493 | 247 | 1 | .33 | 82

Estimated Total Annual Burden Hours: 2,068.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication.

Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-15427 Filed 7-21-17; 8:45 am]

BILLING CODE 4184-22-P